DEPARTMENT OF STATE

[Public Notice 5267]

Notice of Renewal for the Charter of the Secretary of State's Advisory Committee on Leadership and Management Under the Name of the Secretary of State's Advisory Committee on Transformational Diplomacy

SUMMARY: Pursuant to Section 9(a) of the Federal Advisory Committee Act (Pub. L. 92-463) and under the general authority of the Secretary and the Department of State, as derived from the President's constitutional authority and as set forth in sections 2656 and 2651a of Title 22 of the United States Code and other relevant statutes, this notice announces the renewal of the Secretary of State's Advisory Committee on Leadership and Management and amends the title as the Secretary of State's Advisory Committee on Transformational Diplomacy.

The Advisory Committee was created as a vehicle to address leadership and management issues pertaining to transformational diplomacy as they arise and not in response to a specific issue or pending concern. Members of the Advisory Committee may include former senior U.S. government officials and members of Congress and representatives of corporations, not-for-profit non-governmental organizations, professional associations, public policy or academic institutions, and other experts as needed. All meetings of this Committee will be published ahead of time in the Federal Register.

Additionally, the establishment of the Secretary of State's Advisory Committee on Transformational Diplomacy is essential to the conduct of Department of State business, and is in the public interest. Further information regarding this committee may be obtained from Madelyn S. Marchessault, Office of Management Policy, U.S. Department of State, Washington, DC 20520, phone (202) 647-1068.

Dated: February 7, 2006.
Marguerite Coffey,
Acting Director, Office of Management Policy, Department of State.

[FR Doc. E6-2591 Filed 2-22-06; 8:45 am]

BILLING CODE 4710-35-P